DEPARTMENT OF DEFENSE

Office of the Secretary

[Docket ID: DOD-2024-OS-0059]

Submission for OMB Review; Comment Request

AGENCY: Office of the Under Secretary of Defense for Personnel and Readiness (OUSD (P&R)), Department of Defense (DoD).

ACTION: 30-Day information collection notice.

SUMMARY: The DoD has submitted to the Office of Management and Budget (OMB) for clearance the following proposal for collection of information under the provisions of the Paperwork Reduction Act.

DATES: Consideration will be given to all comments received by September 26, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Application for Transitional Compensation; DD Form 2698; OMB Control Number: 0704-0578.

Type of Request: Extension.

Number of Respondents: 500.

Responses per Respondent: 1.

Annual Responses: 500.

Average Burden per Response: 20 minutes.

Annual Burden Hours: 167.

Needs and Uses: DoD Instruction (DoDI) 1342.24, “Transitional Compensation (TC) for Abused Dependents,” establishes policy in accordance with section 1059 of Title 10, United States Code. In order to validate eligibility for the benefit and to ensure payment to the appropriate claimant, the Services obtain information from the abused dependents or their legal representative. This includes personal identifiable information such as name, social security numbers, dates of birth, etc. In order to collect this information, DoDI 1342.24 directs the Service representatives to use DD Form 2698, “Application for TC.” The potential claimant travels to the office of the Service representative at the closest military installation. The Service representative provides the potential claimant with a blank hard-copy of DD Form 2698 to ensure they meet the eligibility requirements for the pay, identify the number of dependent children in the payee's custody, and obtain the current address of the eligible dependent(s) or their legal representative. The claimant will complete Section I and the Service representative will complete Sections II and III of DD Form 2698. The form is then scanned and sent electronically via secure email to Defense Finance and Accounting Service (DFAS) to complete Section IV. Once confirmation of eligibility is made by DFAS, the claimant will begin receiving benefits. All records, both electronic and hard-copy, are filed/stored on a secure database and/or in a secure workspace in accordance with DoD records management protocol.

Affected Public: Individuals or households.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: August 21, 2024.
Aaron T. Siegel,
Alternate OSD Federal Register Liaison Officer, Department of Defense.

[FR Doc. 2024-19208 Filed 8-26-24; 8:45 am]

BILLING CODE 6001-FR-P